DEPARTMENT OF HOMELAND SECURITY

Federal Emergency Management Agency

[FEMA-1541-DR]

Northern Mariana Islands; Amendment No. 1 to Notice of a Major Disaster Declaration

AGENCY: Federal Emergency Management Agency, Emergency Preparedness and Response Directorate, Department of Homeland Security.

ACTION: Notice.

SUMMARY: This notice amends the notice of a major disaster declaration for the Commonwealth of the Northern Mariana Islands (FEMA-1541-DR), dated August 26, 2004, and related determinations.

EFFECTIVE DATE: August 27, 2004.

FOR FURTHER INFORMATION CONTACT: Magda Ruiz, Recovery Division, Federal Emergency Management Agency, Washington, DC 20472, (202) 646-2705.

SUPPLEMENTARY INFORMATION: The notice of a major disaster declaration for the Commonwealth of the Northern Mariana Islands is hereby amended to include Individual Assistance and Categories C-G under the Public Assistance program for the following areas determined to have been adversely affected by the catastrophe declared a major disaster by the President in his declaration of August 26, 2004:

The islands of Rota, Saipan, and Tinian for Individual Assistance and Categories C-G under the Public Assistance program (already designated for Categories A and B under the Public Assistance program and direct Federal assistance.)

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individual and Household Housing; 97.049, Individual and Household Disaster Housing Operations; 97.050 Individual and Household Program—Other Needs, 97.036, Public Assistance Grants; 97.039, Hazard Mitigation Grant Program.)

Michael D. Brown,
Under Secretary, Emergency Preparedness and Response, Department of Homeland Security.

[FR Doc. 04-20104 Filed 9-2-04; 8:45 am]

BILLING CODE 9110-10-P